DEPARTMENT OF HOUSING AND URBAN DEVELOPMENT

[Docket No. FR-4410-FA-14]

Announcement of Funding Awards for FY 1999 Public and Indian Housing New Approach Anti-Drug Program (Formerly Known as the Safe Neighborhood Grant Program)

AGENCY: Office of the Assistant Secretary for Public and Indian Housing, HUD.

ACTION: Announcement of funding awards.

SUMMARY: In accordance with section 102(a)(4)(C) of the Department of Housing and Urban Development Reform Act of 1989, this announcement notifies the public of funding decisions made by the Department in a competition for funding under the FY 1999 Super Notice of Funding Availability (SuperNOFA) for the New Approach Anti-Drug Program. This announcement contains the consolidated names and addresses of those award recipients under the New Approach Anti-Drug Program (NAAD) and the amounts of the awards.

FOR FURTHER INFORMATION CONTACT: For questions concerning the NAAD funding awards, contact the Office of Public and Indian Housing's Grant Management Center Director Michael E. Diggs, Department of Housing and Urban Development, Washington, DC; telephone (202) 358-0221. For the hearing or speech impaired, these numbers may be accessed via TTY (text telephone) by calling the Federal Information Relay Service at 1 (800) 877-8339. (Other than the “800” TTY number, these telephone numbers are not toll-free.)

SUPPLEMENTARY INFORMATION: This program is a comprehensive neighborhood/community-based approach to crime. The purpose of these competitive grants under the New Approach Anti-Drug Program, is to assist entities managing or operating Federally assisted multifamily housing developments, public and Indian housing developments or other multifamily-housing developments for low-income families supported by non-Federal governmental housing entities or similar housing developments supported by nonprofit private sources, to augment security (including personnel costs), assist in the investigation and/or prosecution of drug-related criminal activity in and around such developments, and provide for the development of capital improvements directly related to security.

Crime fighting efforts are most effective when partnering takes place with law-enforcement agencies at various levels and with a full range of community stakeholders (such as public housing agencies (PHAs) and Tribally Designated Housing Entities (THDEs)).

The 1999 awards announced in this Notice were selected for funding in a competition announced in a Federal Register Notice published on February 26,1999 (64 FR 9759). Applications were scored and selected for funding based on the selection criteria in that Notice.

A total of $18,583,075 was awarded to 84 New Approach grantees who have submitted comprehensive implementation plans with specific measurable goals to promote self sufficiency of public and Native American housing residents. In accordance with section 102(a)(4)(C) of the Department of Housing and Urban Development Reform Act of 1989 (103 Stat. 1987, 42 U.S.C. 3545), the Department is publishing the names, addresses, and amounts of those awards provided in Appendix A to this document.

Dated: August 7, 2000.
Harold Lucas,
Assistant Secretary for Public and Indian Housing.

Appendix A

Funding Awards Recipients for the FY 1999 Public and Indian Housing New Approach Anti-Drug Program
[Formerly known as the Safe Neighborhood Grant Program]
Applicant name | Applicant address | City | State | Zip Code | Amount
Cedar Hill Apartments Limited Partnership | 801 South Gabbert | Monticello | Arkansas | 71655- | $206,480
Casa Community Association | 7225 Cartwright Avenue | Sun Valley | California | 91352- | 102,824
Mercy Charities Housing | 1038 Howard | San Francisco | California | 94103- | 207,000
Los Angeles County Housing Development Corporation | 2 Coral Circle | Montery Park | California | 91755- | 250,000
LA Gardens Community Association | 7225 Cartwright Avenue | Sun Valley | California | 91352- | 250,000
Chinatown Community Development Center | 1525 Grant Avenue | San Francisco | California | 94133-3323 | 235,950
Norwood Sound Limited Partnership | 245 Homeadow Street | Weatogue | Connecticut | 06089- | 250,000
Talcott Gardens Limited Partnership | 135 West St | New Britain | Connecticut | 06051- | 242,778
Capital Green Housing Corporation | 18 The Green PO Box 1401 | Dover | Delaware | 19901- | 124,036
Housing Authority of the City of Fort Myers | 3701 Sabal Palm Boulevard | Fort Myers | Florida | 33916- | 145,918
Hickory Knoll Apartments, Limited | 507 NE 22nd Ave | Ocala | Florida | 34470- | 185,260
Cambridge Square of Lauderdale Lakes/Associates II | 3841 NW 21st Street | Lauderdale Lakes | Florida | 33311- | 250,000
Flagler Village Partnership | 200 South Woodlawn Street | St. Augustine | Florida | 32095- | 250,000
Hispanic Housing | 205 West Wacker Drive, Suite 2300 | Chicago | Illinois | 60606- | 215,272
Gateway to the West Sertoma Club, Parkside Development Corp | 198 A Kingston Drive | St. Louis | Illinois | 63125- | 200,800
Eastside Community Investments, Incorporated | 26 North Arsenal | Indianapolis | Indiana | 46201- | 250,000
Antioch Joint Venture | 2201 Green St | Fort Wayne | Indiana | 46803- | 249,960
Century Pacific Housing Properties III | 2351 SE Bellview | Topeka | Kansas | 66605- | 185,735
Chelsea Plaza Homes, Limited | 1021 North Seventh Street | Kansas City | Kansas | 66101- | 217,448
Cabell Corporation | P.O. Box 399 | Denton | Maryland | 21629- | 120,015
Hartland Run Limited Partnership | 1025 Cranbrook Road | Cockeysville | Maryland | 21030-0394 | 250,000
Edgewater Village Apartments | 1881 C Edgewater Drive | Edgewood | Maryland | 21040- | 78,446
Brentwood Associates Limited Partnership | 8403 Colesville Road, Suite 400 | Silver Spring | Maryland | 20910- | 249,795
Lexwood Apartment Associates Limited | Governmental Center, PO Box 653 | Leonardtown | Maryland | 20650- | 237,930
Cambridge Park Apartments | 630 Greenwood Avenue, 102 | Cambridge | Maryland | 21613- | 179,800
Dorchester Bay Economic Development Corporation | 594 Columbia Road | Dorcester | Massachusetts | 02125- | 250,000
Nueva Esparanza, Incorporated | 401 Main Street | Holyoke | Massachusetts | 01040- | 89,100
Sargent West Associates | 151 West Street | Holyoke | Massachusetts | 01040- | 178,000
Jarvis Heights Apartments/Marken Properties | 667 Main St | Holyoke | Massachusetts | 01040- | 198,916
Harbor Point Community Task Force/Corcoran Mullins Jennison | 1 North Point Community Task Force | Dorchester | Massachusetts | 02125- | 243,100
Cranbrook Manor Association | 32605 W. Twelve Mile Rd., Ste. 350 | Farmington Hills | Michigan | 48334- | 225,800
Dwelling Place of Grand Rapids, Incorporated | 339 Division South, Kent County | Grand Rapids | Michigan | 49503- | 233,000
McCormack Baron Management Services | 1101 Lucas Avenue | St. Louis | Missouri | 63101- | 250,000
Greenleaf Association Limited Partnership | 1 East Stow Road | Marlton | Missouri | 08053- | 212,831
Midland Property Management, Incorporation | 2001 Shawnee Mission Parkway | Shawnee Mission | Missouri | 66205- | 237,270
Magnolia Arms Associates Limited | 1 East Stow Rd | Marlton | New Jersey | 08053- | 246,987
Delsea Village Apartments | 2223 South Second Street | Millville | New Jersey | 08332- | 250,000
Wade East Apartments, d.b.a. Broad Street Association | 1701 East Broad Street, #710 | Millville | New Jersey | 08332- | 250,000
Westfield Garden Apartments Limited Liability Corporation | 33rd Street Corner of Westfield Ave | Camden | New Jersey | 08105- | 250,000
Bridgeton Villas 1 & 2 | 1 East Stow Road | Marlton | New Jersey | 08053- | 250,000
Penn Village Associates | 200 South Smith Ave., P.O. Box 391, Salem County | Penns Grove | New Jersey | 08069- | 249,309
Sebastian Village Associates | 1 E. Stow Road, P.O. Box 994 | Marlton | New Jersey | 08053- | 250,000
Williamsport Family Associates | 1 East Stow Rd. | Marlton | New Jersey | 08053- | 250,000
Town and Country Associates | 1 East Stow Road | Marlton | New Jersey | 08053- | 222,000
Roosevelt Manor | 1 East Stow Road | Marlton | New Jersey | 08053- | 243,010
Vita Gardens/Bethel Non Profit Housing | B-1 Management Office, 120 Monmouth Avenue | Asbury Park | New Jersey | 07712- | 250,000
Asbury Towers Associated Limited Partnership | 1701 Ocean Ave. | Asbury Park | New Jersey | 07712-5625 | 250,000
Continental Management Company | 955 West Side Avenue, Suite 200 | Jersey City | New Jersey | 07306- | 214,560
Jersey City Management, Incorporated | 955 West Side Avenue, Suite 200 | Jersey City | New Jersey | 07306- | 222,760
Northland Associates | 1 East Stow Road | Marlton | New Jersey | 08053- | 249,330
Brigantine Homes Associates | 1 East Stow Road, Burlington County | Marlton | New Jersey | 08053- | 250,000
Affirmative Equities Company, Incorporated | 120 Wooster St. | New York | New York | 10012- | 250,000
Whitney Young Associates | 217-02 Jamaica Avenue | Queens Village | New York | 11428- | 168,300
Thetford Properties Limited Partnership IV | 7610 Falls of Neuse, Suite 290 | Raleigh | North Carolina | 27624- | 250,000
Newgate Garden Apartments, A Limited Partnership | Westminster Company, P.O. Box 26560 | Greensboro | North Carolina | 27415-6560 | 250,000
Statesville Housing Authority | 110 West Allison Street | Statesville | North Carolina | 28677- | 250,000
Holly Ridge Apartments | Westminster Company, P.O. Box 26560 | Greensboro | North Carolina | 27415-6560 | 250,000
Oakview Village, A Limited Partnership | P.O. Box 26560 | Greensboro | North Carolina | 27415-6560 | 250,000
Hart Realty, Incorporated | 1534 Race St. | Cincinnati | Ohio | 45210- | 206,000
Colonial American Development Corporation | 400 S Fifth St, Suite 400 | Columbus | Ohio | 43215- | 250,000
Normandy Apartments, Limited | 6221 East 38th Street | Tulsa | Oklahoma | 74135- | 223,500
Woodland Apartments Preservation, Incorporated | 1700 Monroe Street | North Bend | Oregon | 97459- | 250,000
Southfair Limited Partnership | P.O. Box 808 | Salem | Oregon | 97308-0808 | 184,800
Franciscan Enterprise of Oregon | 1478 NE Killingsworth, P.O Box 11268 | Portland | Oregon | 97211- | 250,000
Office for the Liquidation of the Accounts of the CRUV | Barbosa Ave. #429 | Hato Rey | Puerto Rico | 00918- | 220,000
Torres de Carolina Housing Cooperative | Valla Arriba Heights Station, Apartado 2454 | Carolina | Puerto Rico | 00983- | 205,000
Puerto Rico Urban Renewal and Housing Corporation | Barbosa Ave. #429 | Hato Rey | Puerto Rico | 00918- | 220,000
Las Camelias Limited Partnership | P.O. Box 195288 | San Juan | Puerto Rico | 00919-5288 | 190,160
Oak Grove Limited Liability Partnership | P.O. Box 1302 | Johns Island | South Carolina | 29457- | 250,000
Greenfield Meadows Limited | 1504 Riverview Tower, 900 South Gay Street | Knoxville | Tennessee | 37902- | 250,000
Tabernacle Baptist Church, d.b.a. Tabernacle Apartments | 1504 Riverview Tower | Knoxville | Tennessee | 37902- | 250,000
Housing Authority of El Paso for Sitgraves Manor | 5300 E Paisano Dr. | El Paso | Texas | 79905- | 250,000
Pilgrim Valley Manor Trust | 1701 East Robert Street | Fort Worth | Texas | 76104- | 250,000
Dallas Housing Corporation | 3939 N Hampton Rd | Dallas | Texas | 75212- | 250,000
West Durango Plaza Trust, Incorporated | 5635 West Durango | San Antonio | Texas | 78237- | 240,000
Cleme Manor Chartible Trust for Cleme Manor | 1112 S. Ewing | Dallas | Texas | 75216- | 238,000
Community Development Properties/Royal Crest | 3558 Wilhurt | Dallas | Texas | 75216- | 250,000
Housing Authority of El Paso for Hervey, Munoz, & Henderson | 5300 E Paisano Dr | El Paso | Texas | 79905- | 250,000
Meadowview Apartments | 107 Hidden Valley Court | Pulaski | Virginia | 24301- | 248,097
Willow Woods Associates | 222 Allen Avenue | Radford | Virginia | 24141- | 203,345
Housing Authority of the City of Tacoma | 902 South L Street, Suite 1A | Tacoma | Washington | 98405- | 250,000
South East Effective Development | 3405 South Alaska Street | Seattle | Washington | 98118- | 250,000
Housing Authority of the City of Bremerton | 110 Russell Road, PO Box 4460 | Bremerton | Washington | 98312- | 51,622
West Burke Apartment Association Limited | 700 West Burke St. | Martinsburg | West Virginia | 25401- | 82,831
Total |  |  |  |  | 18,583,07

[FR Doc. 00-20693 Filed 8-14-00; 8:45 am]

BILLING CODE 4210-33-P